DEPARTMENT OF COMMERCE

National Oceanic and Atmospheric Administration

RIN 0648-XA631

Endangered and Threatened Species; Take of Anadromous Fish

AGENCY: National Marine Fisheries Service (NMFS), National Oceanic and Atmospheric Administration (NOAA), Commerce.

ACTION: Notice of availability and request for comment.

SUMMARY: Notice is hereby given that NMFS has received two Tribal Resource Management Plans (TRMPs), one from the Shoshone-Bannock Tribes (SBT) and one from the Confederated Tribes of the Umatilla Indian Reservation (CTUIR), and two Fishery Management and Evaluation Plans (FMEPs) from the Oregon Department of Fish and Wildlife (ODFW), for fishery management in the Snake River Basin in Northeast Oregon. The TRMPs are provided pursuant to the Tribal 4(d) Rule; the ODFW FMEPs are submitted for approval under Limit 4 of the 4(d) Rule for Pacific salmon and steelhead. This document serves to notify the public of the availability for comment of the proposed evaluation of the Secretary of Commerce (Secretary) as to how the TRMPs address the criteria in the ESA, and the availability of the state FMEPs for public comment. NMFS also announces the availability of a draft Environmental Assessment (EA) for the pending determinations.

DATES: Comments and other submissions must be received at the appropriate address or fax number (see ADDRESSES) no later than 5 p.m. Pacific time on September 12, 2011.

ADDRESSES: Written responses to the application should be sent to Enrique Patiño, National Marine Fisheries Services, Salmon Management Division, 7600 Sand Point Way, NE., Seattle, WA 98115. Comments may also be submitted by e-mail to: NEOregonFisheryPlans.nwr@noaa.gov. Include in the subject line of the e-mail comment the following identifier: Comments on Northeast Oregon Fishery Plans. Comments may also be sent via facsimile (fax) to (206) 526-6736. Requests for copies of the permit applications should be directed to the National Marine Fisheries Services, Salmon Management Division, 7600 Sand Point Way NE., Seattle, WA 98115. The documents are also available on the Internet at http://www.nwr.noaa.gov. Comments received will also be available for public inspection, by appointment, during normal business hours by calling (503) 230-5418.

FOR FURTHER INFORMATION CONTACT: Enrique Patiño at (206) 526-4655 or e-mail: enrique.patino@noaa.gov.

SUPPLEMENTARY INFORMATION:

Species Covered in This Notice

Chinook salmon (Oncorhynchus tshawytscha): Threatened, naturally produced and artificially propagated Snake River Spring/Summer-run.

Steelhead (O. mykiss): Threatened, naturally produced and artificially propagated Snake River Basin.

Background

On June 7, 2011, NMFS received a final revised TRMP from the SBT, addressing management of SBT fisheries in the Grande Ronde and Imnaha Rivers. On June 8, 2011, NMFS received a final revised TRMP from the CTUIR, addressing management of CTUIR fisheries in the Grande Ronde and Imnaha Rivers. On June 14, 2011, NMFS received two final revised FMEPs from the ODFW, one describing state-managed recreational fisheries in the Grande Ronde River and one describing state-managed fisheries in the Imnaha River. The FMEPs and TRMPs include adaptive management measures to limit ESA impacts and propose conservative harvest regimes on the affected listed species. The FMEPs and TRMPs describe monitoring programs that would be in place to ensure that the implementation of the fisheries is as intended, and that assumptions regarding the effects of the fisheries, particularly in application of the proposed ESA take limits, continue to remain valid.

The FMEPs and TRMPs propose to manage all spring/summer Chinook salmon fisheries to achieve escapement objectives. The FMEPs and TRMPs utilize a harvest rate with five tiers based on predicted adult abundance to each of the affected populations. The majority of the harvest is anticipated to come from hatchery-origin stocks. The FMEPs and TRMPs also describe a process to guide coordination of fishery design and implementation between the agencies implementing fisheries in the action area.

As required by the ESA 4(d) Rule for Tribal Plans (65 FR 42481, July 10, 2000 [50 CFR 223.209]), the Secretary must determine pursuant to 50 CFR 223.209 and pursuant to the government-to-government processes therein whether the TRMPs for fisheries in Northeast Oregon would appreciably reduce the likelihood of survival and recovery of Snake River spring/summer and Snake River Basin steelhead. The Secretary must take comments on his pending determination as to whether the TRMPs address the criteria in the Tribal 4(d) Rule and in § 223.203(b)(4).

As specified in § 223.203(b)(4) of the ESA 4(d) Rule, NMFS may approve an FMEP if it meets criteria set forth in § 223.203(b)(4)(i)(A) through (I). Prior to final approval of an FMEP, NMFS must publish notification announcing its availability for public review and comment.

NEPA requires Federal agencies to conduct an environmental analysis of their proposed actions to determine if the actions may affect the human environment. NMFS expects to take action on two ESA section 4(d) TRMPs and two ESA section 4(d) FMEPs. Therefore, NMFS is seeking public input on the scope of the required NEPA analysis, including the range of reasonable alternatives and associated impacts of any alternatives.

The final NEPA, TRMP, and FMEP determinations will not be completed until after the end of the 30-day comment period and will fully consider all public comments received during the comment period. NMFS will publish a record of its final action on the TRMPs in the Federal Register.

Authority

Under section 4 of the ESA, NMFS, by delegated authority from the Secretary of Commerce, is required to adopt such regulations as he deems necessary and advisable for the conservation of the species listed as threatened. The ESA salmon and steelhead 4(d) Rule (65 FR 42422, July 10, 2000) specifies categories of activities that contribute to the conservation of listed salmonids and sets out the criteria for such activities. Limit 4 of the updated 4(d) rule (50 CFR 223.203(b)(4)) further provides that the prohibitions of paragraph (a) of the updated 4(d) rule (50 CFR 223.203(a)) do not apply to activities associated with fishery harvest provided that an FMEP has been approved by NMFS to be in accordance with the salmon and steelhead 4(d) rule (65 FR 42422, July 10, 2000, as updated in 70 FR 37160, June 28, 2005). The ESA Tribal 4(d) Rule (65 FR 42481, July 10, 2000) states that the ESA section 9 take prohibitions will not apply to TRMPs that will not appreciably reduce the likelihood of survival and recovery for the listed species.

Dated: August 5, 2011.
Therese Conant,
Acting Chief, Endangered Species Division, Office of Protected Resources, National Marine Fisheries Service.

[FR Doc. 2011-20460 Filed 8-10-11; 8:45 am]

BILLING CODE 3510-22-P